DEPARTMENT OF HOMELAND SECURITY

Federal Emergency Management Agency

[Docket ID FEMA-2025-0002; Internal Agency Docket No. FEMA-B-2524]

Proposed Flood Hazard Determinations

AGENCY: Federal Emergency Management Agency, Department of Homeland Security.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP).

DATES: Comments are to be submitted on or before August 20, 2025.

ADDRESSES: The Preliminary FIRM, and where applicable, the FIS report for each community are available for inspection at both the online location https://hazards.fema.gov/femaportal/prelimdownload and the respective Community Map Repository address listed in the tables below. Additionally, the current effective FIRM and FIS report for each community are accessible online through the FEMA Map Service Center at https://msc.fema.gov for comparison.

You may submit comments, identified by Docket No. FEMA-B-2524, to Rick Sacbibit, Chief, Engineering Services Branch, Risk Analysis, Planning & Information Directorate, FEMA, 400 C Street SW, Washington, DC 20472, (202) 646-7659, or (email) patrick.sacbibit@fema.dhs.gov.

FOR FURTHER INFORMATION CONTACT: Rick Sacbibit, Chief, Engineering Services Branch, Risk Analysis, Planning & Information Directorate, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://hazards.fema.gov/femaportal/prelimdownload and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Kristin E. Fontenot,
Assistant Administrator, Risk Analysis, Planning & Information Directorate, Federal Emergency Management Agency, Department of Homeland Security.

Community | Community map repository address
Essex County, New York (All Jurisdictions)
Project: 20-02-0007S Preliminary Date: December 18, 2024
Town of Chesterfield | Chesterfield Town Office, 1 Vine Street, Keeseville, NY 12944.
Town of Crown Point | Town Hall, 17 Monitor Bay Road, Crown Point, NY 12928.
Town of Elizabethtown | Town Offices, 7563 Court Street, Elizabethtown, NY 12932.
Town of Essex | Town Hall, 2313 Main Street, Essex, NY 12936.
Town of Jay | Jay Town Office, 11 School Lane, Au Sable Forks, NY 12912.
Town of Keene | Town Hall, 10892 NYS Route 9N, Keene, NY 12942.
Town of Lewis | Town Hall, 8574 US Route 9, Lewis, NY 12950.
Town of Minerva | Town Hall, 5 Morse Memorial Highway, Minerva, NY 12851.
Town of Moriah | Moriah Town Hall, 38 Park Place, Port Henry, NY 12974.
Town of Newcomb | Town Hall, 5639 NY-28N, Newcomb, NY 12852.
Town of North Elba | North Elba Town Hall, 2693 Main Street, Lake Placid, NY 12946.
Town of North Hudson | Town Hall, 3024 US Route 9, North Hudson, NY 12855.
Town of Schroon | Schroon Town Hall, 15 Leland Avenue, Schroon Lake, NY 12870.
Town of St. Armand | St. Armand Town Hall, 1702 NYS Route 3, Bloomingdale, NY 12913.
Town of Ticonderoga | Town Office, 132 Montcalm Street, Ticonderoga, NY 12883.
Town of Westport | Town Hall, 22 Champlain Avenue, Westport, NY 12993.
Town of Willsboro | Town Hall, 5 Farrell Road, Willsboro, NY 12996.
Town of Wilmington | Town Offices, 7 Community Circle, Wilmington, NY 12997.
Village of Lake Placid | Municipal Hall, 2693 Main Street, Lake Placid, NY 12946.
Seneca County, New York (All Jurisdictions)
Project: 20-02-0012S Preliminary Date: December 05, 2024
Town of Covert | Covert Municipal Building, 8469 South Main Street, Interlaken, NY 14847.
Town of Fayette | Fayette Town Hall, 1439 Yellow Tavern Road, Waterloo, NY 13165.
Town of Junius | Junius Town Office, 655 Dublin Road, Clyde, NY 14433.
Town of Lodi | Town Hall, 8591 State Route 414, Lodi, NY 14860.
Town of Ovid | Ovid Village Offices, 2136 Brown Street, Ovid, NY 14521.
Town of Romulus | Romulus Town Hall, 1435 Prospect Street, Willard, NY 14588.
Town of Seneca Falls | Seneca Falls Municipal Building, 130 Ovid Street, Seneca Falls, NY 13148.
Town of Tyre | Tyre Municipal Building, 1082 Gravel Road, Seneca Falls, NY 13148.
Town of Varick | Varick Town Office, 4782 State Route 96, Romulus, NY 14541.
Town of Waterloo | Town Hall, 66 Virginia Street, Waterloo, NY 13165.
Village of Lodi | Village Hall, 8457 North Main Street, Lodi, NY 14860.
Village of Waterloo | Village Office, 41 West Main Street, Waterloo, NY 13165.

[FR Doc. 2025-09212 Filed 5-21-25; 8:45 am]

BILLING CODE 9110-12-P